DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 27, 2006.

Interested persons are invited to submit written comments regarding the subject matter of the investigations to the Director, Division of Trade Adjustment Assistance, at the address shown below, not later than January 27, 2006.

The petitions filed in this case are available for inspection at the Office of the Director, Division of Trade Adjustment Assistance, Employment and Training Administration, U.S. Department of Labor, Room C-5311, 200 Constitution Avenue, NW., Washington, DC 20210.

Signed at Washington, DC this 10th day of January 2006.
Erica R. Cantor,
Director, Division of Trade Adjustment Assistance.

APPENDIX
[TAA petitions instituted between 12/26/05 and 12/30/05]
TA-W | Subject firm (petitioners) | Location | Date of institution | Date of petition
58547 | Nicholson Manufacturing Company (Wkrs) | Seattle, WA | 12/27/05 | 12/23/05
58548 | Keeler Brass Company (Comp) | Grand Rapids, MI | 12/27/05 | 12/27/05
58549 | Vision Knit Technology, Inc. (Comp) | Gastonia, NC | 12/28/05 | 12/16/05
58550 | Baxter—Financial Center of Excellence (Comp) | Deerfield, IL | 12/28/05 | 12/28/05
58551 | Werner Company (Comp) | Carrollton, KY | 12/28/05 | 12/22/05
58552 | Parker Hannifin Corp. (IAM) | Lebanon, TN | 12/29/05 | 12/29/05
58553 | P and C Quality Turned Components (Wkrs) | Esmond, RI | 12/29/05 | 12/28/05
58554 | Logistics Services, Inc. (Comp) | Oklahoma City, OK | 12/30/05 | 12/09/05
58555 | Penske Logistics (UAW) | Oklahoma City, OK | 12/30/05 | 12/09/05
58556 | Carolina Mirror (Wkrs) | N. Wilkesboro, NC | 12/30/05 | 12/29/05
58557 | Dannex Printing Corporation (Wkrs) | Wood-Ridge, NJ | 12/30/05 | 12/14/05
58558 | Thomas C. Wilson, Inc. (State) | Long Island City, NY | 12/30/05 | 12/19/05
58559 | T and H Sewing Co. (Wkrs) | San Francisco, CA | 12/30/05 | 12/16/05
58560 | Bennett Forest Industries (Comp) | Grangeville, ID | 12/30/05 | 12/16/05
58561 | Lustrik, Inc. (Wkrs) | Philadelphia, PA | 12/30/05 | 12/19/05
58562 | Scholle Packaging (Comp) | Rancho Dominguez, CA | 12/30/05 | 12/30/05
58563 | Authentic Specialty Foods, Inc. (State) | Rosemead, CA | 12/30/05 | 12/30/05
58564 | Lizette Creations, Inc. (State) | Long Beach, CA | 12/30/05 | 12/30/05

[FR Doc. E6-387 Filed 1-13-06; 8:45 am]

BILLING CODE 4510-30-P